DEPARTMENT OF AGRICULTURE

Farm Service Agency

President's Commission on Improving Economic Opportunity in Communities Dependent on Tobacco Production While Protecting Public Health

AGENCY: Farm Service Agency, USDA.

ACTION: Notice of Commission Forums.

SUMMARY: Executive Order 13168, published September 22, 2000, established the President's Commission on Improving Economic Opportunity in Communities Dependent on Tobacco Production While Protecting Public Health (Commission). The Commission is to advise the President on changes occurring in the tobacco farming economy and recommend such measures as may be necessary to improve economic opportunity and development in communities that are dependent on tobacco production, while protecting consumers, particularly children, from hazards associated with smoking. This notice announces forums to be conducted by the Commission on November 9, 2000, to be held in Raleigh, NC, and on November 10, 2000, in Louisville, KY. Both forums will be held to seek comments on tobacco and health related issues the Commission should consider in issuing its Reports to the President. The Commission may also hold additional forums and meetings. If it does, they will be announced. The forums are open to the public.

This notice also announces that the Commission will make its Preliminary Report to the President available on the Commission's web site, www.fsa.usda.gov/tobcom by no later than December 31, 2000, to solicit further public review and comment prior to issuance of the Commission's Final Report.

DATES: The Commission will conduct forums on November 9, 2000, from 9 a.m. until 3 p.m. at the Kerr Scott Building—NC State Fairgrounds (exit 289 off I-40), Raleigh, NC, and on November 10, 2000, from 9 a.m. until 3 p.m. at the Executive West Hotel, Queen Scott Room, 830 Phillips Lane, Louisville, KY (across from KY Fair and Exposition Center). All times are Eastern Standard Time.

Persons with disabilities who require accommodations to attend or participate in this meeting should contact Doug Richardson, on 866-804-6698 (toll free) or 202-418-4266, Federal Relay Service at 1-800-877-8339, or Internet: www.fsa.usda.gov/tobcom, by COB at least 7 days prior to the appropriate meeting.

Comments: Forums: Oral comments will be taken and should be limited to no more than 5 minutes unless prior approval has been received from the Commission for a longer presentation. Two hard copies of oral testimony should be presented to the Commission prior to presentation. Hard copies of other suggestions or recommendations to be considered by the Commission will also be accepted. The public is also invited to submit comments, suggestions, and recommendations for consideration by the Commission to their web site, www.fsa.usda.gov/tobcom.

Preliminary Report: The Commission's Preliminary Report to the President will be posted to the Commission's web site by no later than December 31, 2000. The public is invited to respond and/or to submit comments, concerns, and issues with respect to the Preliminary Report for consideration by the Commission no later January 22, 2001.

ADDRESSES: Written comments and statements not submitted to the Commission at the forums may be sent to Doug Richardson, Executive Director, The Tobacco Commission, U.S. Department of Agriculture, 1400 Independence Avenue, SW., STOP 0574, Washington, DC 20250-0574 by no later than January 22, 2001.

FOR FURTHER INFORMATION CONTACT: Doug Richardson (202) 418-4266 or toll free (886) 804-6694; FAX (202) 418-4270; Internet: www.fsa.usda.gov/tobcom.

SUPPLEMENTARY INFORMATION: The purpose of the Commission is to advise the President on changes occurring in the tobacco farming economy and recommend such measures as may be necessary to improve economic opportunity and development in communities that are dependent on tobacco production, while protecting consumers, particularly children, from hazards associated with smoking. The Commission shall collect and review information about changes in the tobacco farming economy and Federal, State, and local initiatives intended to help tobacco growers, tobacco quota holders; and communities dependent on tobacco production pursue new economic opportunities. The Commission may make recommendations concerning these and any other changes and initiatives that may be necessary to improve economic opportunity in communities dependent on tobacco production. The Commission shall also consider the public health implications of such changes and initiatives, including the efforts to reduce the number of people who incur tobacco-caused diseases and tobacco-related health consequences in the United States and abroad.

In January 1998, the public health community and the tobacco producing community came together and agreed on a “Core Principles Statement”. These communities agreed to work together in a spirit of cooperation and with a commitment towards (1) reducing disease caused by tobacco products, and (2) ensuring the future prosperity and stability of the American tobacco farmer, the tobacco farm family, and tobacco farming communities. The full text of this Statement may be found on the Commission's web site www.fsa.usda.gov/tobcom. The Commission's work will build on these Core Principles in view of recent tobacco program developments.

In addition to your views and thoughts regarding the issues for which the Commission was established, as set forth above, the Commission is interested in your input and suggestions on the following questions and issues:

1. Over the past 3-years, burley and flue-cured tobacco quotas have been reduced by 65 percent and 45 percent, respectively. Recently, quotas for other kinds of tobacco subject to a production control program have either not been reduced or not reduced as drastically. What do you believe is the main reason or reasons for this downward trend in quotas? Do your believe the downward trend is due to short-term factors or is it likely to continue? What are the implications for tobacco producers if the only way to curtail the downward trend is to match world tobacco prices?

2. In addition to quota reductions, tobacco producers have experienced significant production and marketing changes including contracting and concentration of production into fewer hands. What are the economic consequences of these actions for tobacco producers and their communities in your area? What Federal, State, or local initiatives regarding diversification of agricultural production have worked well in your community? What changes to existing initiatives or new initiatives do you recommend? How is your State using funds from the National Tobacco Settlement (Phase I) to assist tobacco producers and their communities and to deter tobacco use? What role, if any, should the Federal or State government play in contracting of tobacco production?

3. What Federal, State, or local initiatives have worked well in your community in efforts to prevent tobacco use, including youth tobacco use? What initiatives have been a detriment to preventing tobacco use, including youth tobacco use?

4. The Core Principles Statement provides, in part, that a tobacco production control program which limits the supply and which sets a minimum purchase price is in the best interest of the public health community and the tobacco producer community. Should there be a program that controls tobacco production and/or provides price supports? If so, should the government be involved? If yes, what program changes, if any, are needed to improve economic conditions for tobacco producers and their communities? Are current USDA programs, other than tobacco, helping or hurting tobacco producers and their communities deal with economic losses?

5. If the tobacco production control program is terminated by either producers voting in a triennial referendum or by legislative repeal, what do you see as the consequences to tobacco producers and tobacco dependent communities? If the tobacco production control program is eliminated, what health related consequences, if any, do you see occurring? In the absence of a tobacco control program, what initiatives should be taken to help maintain a level playing field for independent tobacco producers?

6. Based on the many internal and external factors affecting the tobacco program, do you feel that a buyout of production quotas and elimination of the tobacco production control program is a viable solution? If a buyout is a solution, should it be mandatory for all quota holders, tenants and producers or voluntary, with some form of tobacco production and price support program remaining in place? If a buyout is a solution, at what rate per pound should the compensation be set?

7. Small farms in the South have declined drastically over the past 10 years, with tobacco now being produced on approximately 85,000 farms, most being small farms. The reduction in tobacco quotas has added to the decline in small farms. Since many small farms are owned by African-American farmers and thus tobacco producers, to what extent do civil rights concerns, economic and rural conditions combine to further increase economic problems in tobacco dependent communities? What impact have recent changes in the economies of tobacco had on farm workers in tobacco dependent communities? What initiatives currently address farm workers economic and social needs created by this situation? What new initiatives are needed in this area?

8. What additional measures should be taken to prevent tobacco use, particularly by young people, and to help reduce disease caused by tobacco products?

Signed at Washington, DC, on October 18, 2000.
Keith Kelly,
Administrator, Farm Service Agency.

[FR Doc. 00-27221 Filed 10-20-00; 8:45 am]

BILLING CODE 3410-05-P